DEPARTMENT OF DEFENSE

Office of the Secretary

Meeting of a Federal Advisory Committee

AGENCY: Department of Defense.

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense announces that the following Federal Advisory Committee meeting of the Department of Defense Task Force on the Care, Management, and Transition of Recovering Wounded, Ill, and Injured Members of the Armed Forces (subsequently referred to as the Task Force) will take place.

DATES: Wednesday, March 30, 2011, and Thursday, March 31, 2011 from 8 a.m.-5 p.m.

ADDRESSES: Gaylord National Resort & Convention Center, 201 Waterfront St., National Harbor, MD 20745.

FOR FURTHER CONTACT INFORMATION: Mail Delivery service through Recovering Warrior Task Force, Hoffman Building II, 200 Stovall St., Alexandria, VA 22332-0021 “Mark as Time Sensitive for March Meeting.” E-mails to rwtf@wso.whs.mil. Telephone (703) 325-6640. Fax (703) 325-6710.

SUPPLEMENTARY INFORMATION:

Purpose of the Meeting: The purpose of the meeting is for the Task Force Members to convene and receive briefings on the Marine Corps Wounded Warrior Regiment, the Navy Safe Harbor Program, and the National Guard's Transition Assistance Advisor Program.

Agenda: (Please refer to http://dtf.defense.gov/rwtf/meetings.html for the most up-to-date meeting information.)

8 a.m.-5 p.m. Wednesday 30 March 2011

8 Opening and review of recent Task Force Installation Visits

10 Break

10:15 Measures of Effectiveness and Systems of Performance and Accountability and Marine Corps Support to Caregivers in the Marine Corps Wounded Warrior Regiment

11:30 Break Working Lunch

11:45 Marine Corps Measures of Effectiveness and Systems of Accountability: Medical Case Management, Wounded Warrior Regiment

1 Break

1:15 Marine Corps Services for TBI and PTSD

2:15 Break

2:30 Marine Corps Programs for Transition Assistance

3:15 Break

3:30 Marine Corps Support Systems Disability Evaluation System

4:30-5 Close

8 a.m.-5 p.m. Thursday 31 March 2011

8 Welcome and Opening Remarks

9 Public Forum

9:15 Navy Measures of Effectiveness and Systems of Performance and Accountability for the Navy Safe Harbor Program

10:30 Break

10:45 Navy Measures of Effectiveness and Systems of Accountability: Medical Care Case Management, Navy Safe Harbor Program

11:45 Break Working Lunch

12 Navy Medical Services for TBI and PTSD

1 Navy Programs for Transition Assistance

2 Break

2:15 National Guard Transition Assistance Advisor Program

3:15 Break

3:30 National Guard Physiological Health Program

4:30 Close

Public's Accessibility to the Meeting: Pursuant to 5 U.S.C. 552b and 41 CFR 102-3.140 through 102-3.165, and the availability of space, this meeting is open to the public. Seating is on a first-come basis.

Point of Contact: Denise F. Dailey, Designated Federal Officer, (703) 325-6640, Hoffman Building II, 200 Stovall St., Alexandria, VA 22332-0021, rwtf@wso.whs.mil.

Written Statements: Pursuant to 41 CFR 102-3.105(j) and 102-3.140, and section 10(a)(3) of the Federal Advisory Committee Act of 1972, the public or interested organizations may submit written statements to the Department of Defense Task Force on the Care, Management, and Transition of Recovering Wounded, Ill, and Injured Members of the Armed Forces about its mission and functions. Written statements may be submitted at any time or in response to the stated agenda of a planned meeting of the Department of Defense Task Force on the Care, Management, and Transition of Recovering Wounded, Ill, and Injured Members of the Armed Forces.

All written statements shall be submitted to the Designated Federal Officer for the Task Force through the above contact information, and this individual will ensure that the written statements are provided to the membership for their consideration.

Statements being submitted in response to the agenda mentioned in this notice must be received by the Designated Federal Officer at the address listed NLT 5 p.m. EST, Monday, March 21, 2011, which is the subject of this notice. Written statements received after this date may not be provided to or considered by the Task Force until its next meeting. Please mark mail correspondence as “Time Sensitive for March Meeting.”

The Designated Federal Officer will review all timely submissions with the Task Force Co-Chairs and ensure they are provided to all members of the Task Force before the meeting that is the subject of this notice.

If individuals are interested in making an oral statement during the Public Forum time period, a written statement for a presentation of two minutes must be submitted as above and must identify it is being submitted for an oral presentation by the person making the submission. Identification information must be provided and at a minimum must include a name and a phone number. Determination of who will be making an oral presentation will depend on the submitted topic's relevance to the Task Force's Charter. Individuals may visit the Task Force Web site at http://dtf.defense.gov/rwtf/ to view the Charter. Individuals making presentations will be notified by Friday, March 25, 2011. Oral presentations will be permitted only on Thursday, March 31, 2011 from 9 a.m. to 9:15 a.m. before the full Task Force. Number of oral presentations will not exceed five, with one minute of questions available to the Task Force members per presenter. Presenters should not exceed their two minutes.

Reasonable accommodations will be made for those individuals with disabilities who request them. Requests for additional services should be directed to Joseph Jordon, (703) 325-6640, by 5 p.m. EST, Monday, March 21, 2011.

Dated: March 1, 2011.
Morgan F. Park,
Alternate OSD Federal Register Liaison Officer, Department of Defense.

[FR Doc. 2011-4928 Filed 3-3-11; 8:45 am]

BILLING CODE 5001-06-P